DEPARTMENT OF LABOR

Employment and Training Administration

Investigations Regarding Certifications of Eligibility To Apply for NAFTA Transitional Adjustment Assistance

Petitions for transitional adjustment assistance under the North American Free Trade Agreement-Transitional Adjustment Assistance Implementation Act (Pub. L. 103-182), hereinafter called (NAFTA-TAA), have been filed with State Governors under Section 250(b)(1) of Subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of Section 250 of the Trade Act.

The purpose of the Governor's actions and the Labor Department's investigations are to determine whether the workers separated from employment on or after December 8, 1993 (date of enactment of Pub. L. 103-182) are eligible to apply for NAFTA-TAA under Subchapter D of the Trade Act because of increased imports from or the shift in production to Medico or Canada.

The petitioners or any other persons showing a substantial interest in the subject matter of the investigations may request a public hearing with the Director of DTAA at the U.S. Department of Labor (DOL) in Washington, DC provided such request if filed in writing with the Director of DTAA not later than March 2, 2001.

Also, interested persons are invited to submit written comments regarding the subject matter of the petitions to the Director of DTAA at the address shown not later than March 2, 2001.

Petitions filed with the Governors are available for inspection at the Office of the Director, DTAA, ETA, DOL, Room C-5311, 200 Constitution Avenue, NW., Washington, DC 20210.

Signed at Washington, DC this 7th day of February, 2001.
Edward A. Tomchick,
Director, Division of Trade Adjustment Assistance.

Appendix
Subject firm | Location | Date received at Governor's office | Petition No. | Articles produced
Raven Industries (Co.) | Sioux Falls, SD | 02/02/2001 | NAFTA-4,491 | Insulated winter outerwear.
IVF Imagewear (Co.) | Henning, TN | 02/23/2001 | NAFTA-4,492 | Industrial garments.
Camp International (UNITE) | Jackson, MI | 02/12/2001 | NAFTA-4,493 | Under garments.
Victor Equipment (Co.) | Denton, TX | 02/02/2001 | NAFTA-4,494 | Welding equipment.
Johnson Electric Automotive (Wkrs) | Brownsville, TX | 02/02/2001 | NAFTA-4,495 | Shafts.
Challenger Electric (Wkrs) | Pageland, SC | 02/02/2001 | NAFTA-4,496 | Porcelain parts.
Seco Manufacturing (Co.) | Redding, CA | 02/01/2001 | NAFTA-4,497 | Cases, backpacks and pouches.
Intertrade Holdings (Wkrs) | Copperhill, TN | 02/02/2001 | NAFTA-4,498 | Sulfuric acid & Sulfur dioxide.
Rexam (Wkrs) | Mt. Holly, NJ | 01/19/2001 | NAFTA-4,499 | Pouches.
Merit Abrasive Products (GCW) | Compton, CA | 02/02/2001 | NAFTA-4,500 | Fabrication of abrasive products.
Louisiana Pacific (Co.) | Oroville, CA | 01/22/2001 | NAFTA-4,501 | Hard board products.
TRW (ICWUC) | Auburn, NY | 02/01/2001 | NAFTA-4,502 | Remote keyless entry.
Earl Soesbe (USWA) | Rensselaer, IN | 01/31/2001 | NAFTA-4,503 | Self dumping steel refuse container.
Motorola (Co.) | Lawrenceville, GA | 01/31/2001 | NAFTA-4,504 | Battery packs.
Morgan Crucible Company (Co.) | East Stroudsburg, PA | 01/30/2001 | NAFTA-4,505 | Carbon Brushes.
Millicron Resin Abrgasives (USWA) | Carlisle, PA | 01/30/2001 | NAFTA-4,506 | Grinding wheels.
Magnetic Head Technologies (Wkrs) | St. Corix Falls, WI | 01/26/2001 | NAFTA-4,507 | Tape heads.
Monona Wire Corporation (Wkrs) | Wayzeka, WI | 01/30/2001 | NAFTA-4,508 | Wire harnesses.
U.S. Forest Industries (Wkrs) | South Fork, CO | 01/30/2001 | NAFTA-4,509 | Lumber.
JPM Company (The) (Co.) | San Jose, CA | 01/31/2001 | NAFTA-4,510 | Cable assembly & wire harnessing.
Three G's (Co.) | Crossville, TN | 01/30/2001 | NAFTA-4,511 | Shirts.
Georgia Pacific (Wkrs) | Gaylord, MI | 01/30/2001 | NAFTA-4,512 | Partical board.
Georgia Pacific (Co.) | Kalamagoo, MI | 01/29/2001 | NAFTA-4,513 | Paper products.
Summit Timber (Co.) | Darrington, WA | 01/31/2001 | NAFTA-4,514 | Dimension lumber.
Talon Automotive Group (Co.) | Oxford, MI | 01/12/2001 | NAFTA-4,515 | Automotove Stamping.
Pacific North Equipment (Wkrs) | Seattle, WA | 01/26/2001 | NAFTA-4,516 | Heavy machinery.
Mirro Foley (PACE) | Chilton, WI | 01/29/2001 | NAFTA-4,517 | Aluminum cockware.
Eagle OPG—Z Bag Division (Wkrs) | St. Louis, MO | 02/02/2001 | NAFTA-4,518 | Bags.
Tyco—Mallinckrodt (Wkrs) | Plumouth, MN | 01/23/2001 | NAFTA-4,519 | Alternate care.
Borden Chemical (Co.) | Kent, WA | 02/05/2001 | NAFTA-4,520 | Phenolic resin production.
Prodica—UNOCAL (Co.) | Vennewick, WA | 02/05/2001 | NAFTA-4,521 | Ammorua.
Motor Appliance (Wkrs) | Washington, MO | 02/05/2001 | NAFTA-4,522 | Fractional motors.

[FR Doc. 01-4125 Filed 2-16-01; 8:45 am]

BILLING CODE 4510-50-M